DEPARTMENT OF HEALTH AND HUMAN SERVICES

Health Resources and Services Administration

Agency Information Collection Activities: Submission to OMB for Review and Approval; Public Comment Request; The Maternal, Infant, and Early Childhood Home Visiting Program Performance Measurement Information System, OMB No. 0906-0017, Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than May 19, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: The Maternal, Infant, and Early Childhood Home Visiting Program Performance Measurement Information System, OMB NO. 0906-0017, Revision.

Abstract: This clearance request is for continued approval of the Maternal, Infant, and Early Childhood Home Visiting (MIECHV) Program Performance Measurement Information System, as updated. The MIECHV Program, administered by HRSA in partnership with the Administration for Children and Families, supports voluntary, evidence-based home visiting services to pregnant women and to parents with young children up to kindergarten entry. States, certain non-profit organizations, and tribal entities are eligible to receive funding from the MIECHV Program and have the flexibility to tailor the program to serve the specific needs of their communities.

A 60-day notice published in the Federal Register on December 18, 2020, vol. 85, No. 244; pp. 82490-91. There were 24 public comments.

These comments provided suggestions to improve clarity, protect privacy, and reduce reporting burden related to information complexity in Form 1. Comments also suggested ways to enhance the quality, utility, and clarity of existing guidance in Form 2 and suggested that the implementation of two newly proposed measures related to substance use screening and referrals would require updates to training activities and data collection.

HRSA appreciates these comments and recommended revisions to the information collection. HRSA has responded to the recommended revisions by revising certain demographic categories, removing a proposed table on father and caregiver engagement, making the reporting of proposed measures on substance use screening and referrals optional, and increasing the estimated burden on respondents due to the inclusion of two new optional measures (Form 2) for substance use and referral that are being introduced through this revision. HRSA intends for the following proposed revisions to the data collection for the MIECHV Program to further improve clarity, protect privacy, and address increased reporting burden:

• Form 1, Table 1: Update table to include reporting for gender non-binary participants and unknown/did not report participant gender.

• Form 1, Tables 3, 5, 6, 7, 18, 19, and 20: Update tables to remove index child gender reporting.

• Form 1, Tables 3, 4, 6, 7, 8, 9, 10, 11, and 18: Update tables to remove adult participant gender reporting.

• Form 1, Table 15: Change table title to “Home Visits.”

• Form 1, Table 15: Update table to collect the number of home visits completed virtually.

• Form 1, Tables 4, 9, 10, and 18: Update tables to include reporting for new and continuing adult participants.

• Form 1, Tables 5, 19, and 20: Update tables to include reporting for new and continuing index children.

• Form 2, Measure 13: Change measure name to “Behavioral Concern Inquiries.”

• Form 2, Measure 16: Update measure to reflect caregiver health insurance coverage status.

• Form 2, Measures 17, 18, and 19: Update missing data guidance.

• Form 2: Inclusion of two optional measures to collect information on subtance use screening and referrals.

Need and Proposed Use of the Information: HRSA uses performance information to demonstrate program accountability and continuously monitor and provide oversight to MIECHV Program awardees. The information is also used to provide quality improvement guidance and technical assistance to awardees and help inform the development of early childhood systems at the national, state, and local level. HRSA is seeking to revise and extend demographic, service utilization, and select clinical indicators for participants enrolled in home visiting services. In addition, HRSA will collect a set of standardized performance and outcome indicators that correspond with the statutorily identified benchmark areas.

This information will be used to demonstrate awardees' compliance with legislative and programmatic requirements. It will also be used to monitor and provide continued oversight for awardee performance and to target technical assistance resources to awardees. In the future, HRSA anticipates that MIECHV funding decisions may be allocated, in part, based on awardee performance, including on benchmark performance areas. This notice is subject to the appropriation of funds, and is a contingency action taken to ensure that, should funds become available for this purpose, information can be collected in a timely manner.

Likely Respondents: MIECHV Program awardees that are states, territories, and, where applicable, nonprofit organizations providing home visiting services within states.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Form 1: Demographic, Service Utilization, and Select Clinical Indicators | 56 | 1 | 56 | 440 | 24,640
Form 2: Performance Indicators and Systems Outcome Measures | 56 | 1 | 56 | 360 | 20,160
Total | 56 |  | 56 |  | 44,800

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-07971 Filed 4-16-21; 8:45 am]

BILLING CODE P